GENERAL SERVICES ADMINISTRATION

41 CFR Parts 300-3 and 301-11, Appendices B and D to Chapter 301, and Parts 302-9 and 302-11

[FTR Amendment 2018-01; FTR Case 2018-301; Docket No. 2018-0007, Sequence 1]

RIN 3090-AJ99

Federal Travel Regulation (FTR); Removal of the Meals and Incidental Expenses (M&IE) Deduction Table, Allocation of M&IE Rates To Be Used in Making Deductions From the M&IE Allowance, and the Glossary of Acronyms

AGENCY: Office of Government-wide Policy, U.S. General Services Administration (GSA).

ACTION: Direct final rule.

SUMMARY: GSA is amending the Federal Travel Regulation (FTR), to remove the meals and incidental expenses (M&IE) deduction table, Allocation of M&IE Rates To Be Used in Making Deductions From the M&IE Allowance, and the Glossary of Acronyms.

DATES: This rule is effective August 13, 2018 without further action, unless adverse comments are received by July 27, 2018. GSA will consider whether these comments are significant enough to publish a timely withdrawal in the Federal Register informing the public that this direct final rule will not take effect.

ADDRESSES: Submit comments in response to FTR Case 2018-301 by any of the following methods:

• Regulations.gov: http://www.regulations.gov. Submit comments via the Federal eRulemaking portal by entering “FTR Case 2018-301”, under the heading “Enter Keyword or ID” and select “Search”. Select the link “Submit a Comment” that corresponds with “FTR Case 2018-301” and follow the instructions provided at the “Comment Now” screen. Please include your name, company name (if any), and “FTR Case 2018-301” on your attached document.

• Mail: General Services Administration, Regulatory Secretariat (MVCB), ATTN: Ms. Lois Mandell, 1800 F Street NW, Washington, DC 20405.

Instructions: Please submit comments only and cite FTR Case 2018-301 in all correspondence related to this case. All comments received will be posted without change to http://www.regulations.gov, including any personal and/or business confidential information provided. To confirm receipt of your comment(s), please check www.regulations.gov approximately two to three days after submission to verify posting (except allow 30 days for posting of comments submitted by mail).

FOR FURTHER INFORMATION CONTACT: For clarification of content, contact Ms. Jill Denning, Program Analyst, Office of Government-wide Policy, at 202-208-7642 or jill.denning@gsa.gov. Contact the Regulatory Secretariat Division (MVCB), 1800 F Street NW, Washington, DC 20405, 202-501-4755, for information pertaining to status or publication schedules. Please cite FTR case 2018-301.

SUPPLEMENTARY INFORMATION:

A. Public Participation

GSA is publishing this direct final rule without a prior proposed rule as this is a noncontroversial action, and GSA anticipates no significant adverse comments. A significant adverse comment is defined as one where the comment explains why the rule would be inappropriate, including challenges to the rule's underlying premise or approach, or would be ineffective or unacceptable without a change. In determining whether a significant adverse comment is sufficient to terminate a direct final rulemaking, GSA will consider whether the comment raises an issue serious enough to warrant a substantive response in a notice-and-comment process. GSA notes that comments that are frivolous, insubstantial, or outside the scope of the rule would not be considered adverse under this procedure. A comment recommending a rule change in addition to the rule would not be considered a significant adverse comment, unless the comment states why the rule would be ineffective without the additional change. In addition, if a significant adverse comment applies to part of a rule and that part can be severed from the remainder of the rule (e.g., where a rule deletes several unrelated regulations), GSA may adopt as final those parts of the rule that are not the subject of a significant adverse comment. For further information about commenting on this rule, please see the ADDRESSES section of this document.

B. Background

As part of a comprehensive review of the FTR, GSA is removing the M&IE deduction table from appendix B to chapter 301, Allocation of M&IE Rates To Be Used in Making Deductions From the M&IE Allowance; and all of appendix D to chapter 301, Glossary of Acronyms. The table in appendix B is publicly available on the internet at https://www.gsa.gov/mie thus its publication in the FTR is no longer necessary. In addition, GSA will amend FTR § 301-11.18 to remove reference to the table in appendix B to chapter 301.

With the exception of the Federal Emergency Management Agency (FEMA), the Federal Housing Authority (FHA) and Free on Board (FOB), the acronyms in appendix D to chapter 301 are either defined in the Glossary of Terms section at FTR § 300-3.1, spelled out within the text of the regulations themselves, or are commonly known acronyms that can be found in sources outside the FTR, making appendix D duplicative. In accordance with this amendment the acronyms for FEMA, FHA and FOB are now spelled out within the text of the FTR where they appear. In addition, a website link has been updated in the section accompanying the FEMA acronym.

C. Executive Orders 12866 and 13563

Executive Orders (E.O.s) 12866 and 13563 direct agencies to assess all costs and benefits of available regulatory alternatives, and if regulation is necessary, to select regulatory approaches that maximize net benefits (including potential economic, environmental, public health and safety effects, distributive impacts, and equity). E.O. 13563 emphasizes the importance of quantifying both costs and benefits, of reducing costs, of harmonizing rules, and of promoting flexibility. This final rule is not a significant regulatory action, and therefore, was not subject to review under Section 6(b) of E.O. 12866, Regulatory Planning and Review, dated September 30, 1993.

D. Executive Order 13771

This final rule is not an E.O. 13771 regulatory action because this rule is not significant under E.O. 12866.

E. Executive Order 13777

This final rule was identified by GSA's Regulatory Reform Task Force as a rule that improves efficiency by reducing costs—in this case, printing fewer hardcopy pages of the FTR, but maintaining the same information online.

F. Regulatory Flexibility Act

This direct final rule will not have a significant economic impact on a substantial number of small entities within the meaning of the Regulatory Flexibility Act, 5 U.S.C. 601, et seq. This direct final rule is also exempt from the Administrative Procedure Act per 5 U.S.C. 553(a)(2), because it applies to agency management or personnel.

G. Paperwork Reduction Act

The Paperwork Reduction Act does not apply because the changes to the FTR do not impose recordkeeping or information collection requirements, or the collection of information from offerors, contractors, or members of the public that require the approval of the Office of Management and Budget under 44 U.S.C. 3501, et seq.

H. Small Business Regulatory Enforcement Fairness Act

This direct final rule is also exempt from Congressional review prescribed under 5 U.S.C. 801 since it relates solely to agency management and personnel.

List of Subjects in 41 CFR Parts 300-3 and 301-11, Appendices B and D to Chapter 301, and Parts 302-9 and 302-11

Government employees, Travel and transportation expenses.

Dated: June 20, 2018.
Emily W. Murphy,
Administrator.

For the reasons set forth in the preamble, GSA amends 41 CFR parts 300-3 and 301-11, appendices B and D to chapter 301, and parts 302-9 and 302-11 as follows:

PART 300-3—GLOSSARY OF TERMS

1. The authority citation for 41 CFR part 300-3 continues to read as follows:

Authority: 5 U.S.C. 5707; 40 U.S.C. 121(c); 49 U.S.C. 40118; 5 U.S.C. 5738; 5 U.S.C. 5741-5742; 20 U.S.C. 905(a); 31 U.S.C. 1353; E.O. 11609, as amended, 3 CFR, 1971-1975 Comp., p. 586, Office of Management and Budget Circular No. A-126, Revised May 22, 1992.

2. Amend § 300-3.1 by revising the definition of “Approved accommodation” to read as follows:

§ 300-3.1 What do the following terms mean?

* * * * *

Approved accommodation—Any place of public lodging that is listed on the national master list of approved accommodations. The national master list of all approved accommodations is compiled, periodically updated, and published in the Federal Register by the Federal Emergency Management Agency (FEMA). Additionally, the approved accommodation list is available on the U.S. Fire Administration's internet site at https://apps.usfa.fema.gov/hotel/.

* * * * *

PART 301-11—PER DIEM EXPENSES

3. The authority citation for 41 CFR part 301-11 continues to read as follows:

Authority: 5 U.S.C. 5707.

4. Amend § 301-11.18 by revising the first sentence of paragraph (a) to read as follows.

§ 301-11.18 What M&IE rate will I receive if a meal(s) is furnished by the Government or is included in the registration fee?

(a) Except as provided in § 301-11.17 or in paragraph (b) of this section, your M&IE allowance must be adjusted for meals furnished to you by the Government (including meals furnished under the authority of chapter 304 of this title) by deducting the appropriate amount shown at www.gsa.gov/mie. * * *

* * * * *

5. Revise appendix B to chapter 301 to read as follows:

Appendix B to Chapter 301—Allocation of M&IE Rates To Be Used in Making Deductions From the M&IE Allowance

For the meals and incidental expenses (M&IE) deduction amounts for localities in CONUS, non-foreign areas, and foreign areas, visit http://www.gsa.gov/mie. Any updates to the amounts will be noted in FTR Per Diem Bulletins, issued periodically and available on the internet.

Appendix D to Chapter 301 [Removed and Reserved]

6. Remove and reserve appendix D to chapter 301.

PART 302-9—ALLOWANCES FOR TRANSPORTATION AND EMERGENCY OR TEMPORARY STORAGE OF A PRIVATELY OWNED VEHICLE

7. The authority citation for 41 CFR part 302-9 continues to read as follows:

Authority: 5 U.S.C. 5737a; 5 U.S.C. 5738; 20 U.S.C. 905(a); E.O. 11609, as amended, 3 CFR, 1971-1975 Comp., p. 586.

8. Amend § 302-9.143 by revising paragraph (b) to read as follows:

§ 302-9.143 When I am authorized to transport a POV, may I have the manufacturer or the manufacturer's agent transport a new POV from the factory or other shipping point directly to my post of duty?

* * * * *

(b) The POV is transported Free on Board (FOB)—shipping point, consigned to you and/or a member of your immediate family, or your agent; and

* * * * *

PART 302-11—ALLOWANCES FOR EXPENSES INCURRED IN CONNECTION WITH RESIDENCE TRANSACTIONS

9. The authority citation for 41 CFR part 302-11 continues to read as follows:

Authority: 5 U.S.C. 5738 and 20 U.S.C. 905(c).

10. Amend § 302-11.200 by revising paragraph (f)(1) to read as follows:

§ 302-11.200 What residence transaction expenses will my agency pay?

* * * * *

(f) * * *

(1) Federal Housing Administration (FHA) or VA fees for the loan application;

* * * * *

[FR Doc. 2018-13866 Filed 6-26-18; 8:45 am]

BILLING CODE 6820-14-P